DEPARTMENT OF HEALTH AND HUMAN SERVICES

Administration for Children and Families

Submission for OMB Review: Assessing Models of Coordinated Services for Low-Income Children and Their Families (AMCS) (New Collection)

AGENCY: Office of Planning, Research, and Evaluation; ACF; HHS

ACTION: Request for public comment.

SUMMARY: The Office of Planning, Research, and Evaluation (OPRE), Administration for Children and Families (ACF), U.S. Department of Health and Human Services (HHS), is proposing to collect data for a new study, Assessing Models of Coordinated Services for Low-Income Children and Their Families (AMCS).

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

SUPPLEMENTARY INFORMATION:

Description: Through AMCS, ACF seeks to learn more about how states and communities coordinate early care and education, family economic security, and/or other health and human services to most efficiently and effectively serve the needs of low-income children and their families. ACF aims to understand strategies used to support partnerships, including the federal barriers to agency collaboration. In support of achieving these goals, the study team will conduct site visits to six programs that offer coordinated services. The study team will gather information through interviews with program staff members, such as agency leaders or frontline staff, and focus groups with parents.

Data collection activities will include up to six program site visits. Programs will be identified through a scan of publicly available information about programs, recommendations from stakeholders, and proposed telephone interviews (the information collection request for these interviews will be submitted under the generic clearance: Formative Data Collections for ACF Research, OMB #0970-0356)). Once potential programs are identified, agency leaders will be invited to participate in the site visit. Site visits will include semi-structured interviews with up to 30 total staff at each site. Staff invited will include lead program and partner staff to include agency leaders (including program directors, executive directors, or CEOs), directors of programs within the site, frontline staff (including service navigators or coordinators), and focus groups with 8-10 parents at each site. Semi-structured interviews with program and partner staff will obtain in-depth information about the goals and objectives of programs, the services provided, how the coordinated services are implemented, how staffing is managed, data use, and any facilitators and barriers to coordination. Focus groups with parents participating in the program will provide the opportunity to learn about how parents perceive the program, how it meets their needs, what benefits they gain from the program, and how they enroll, participate, and progress through the program.

Respondents: Lead program and partner program staff members working in six programs across the United States that coordinate early care and education services with family economic security services and/or other health and human services, as well as parents receiving services from these programs. Staff respondents will be selected with the goal of having staff represent each level of the organization. Parents who have participated in the program for at least six months and who received early childhood services and at least one other program service will be invited to participate in focus groups.

Annual Burden Estimates
Instrument | Total/annual number of respondents | Number of responses per respondent | Average burden hours per response | Annual burden hours
Master Interview Protocol | 180 | 1 | 2 | 360
Parent Focus-Group Protocol | 60 | 1 | 1 | 60

Estimated Total Annual Burden Hours: 420.

Authority: 42 U.S.C. 9858(a)(5).

Mary B. Jones,
ACF/OPRE Certifying Officer.

[FR Doc. 2019-20307 Filed 9-18-19; 8:45 am]

BILLING CODE 4184-23-P